DEPARTMENT OF COMMERCE

International Trade Administration

[A-580-809]

Circular Welded Non-Alloy Steel Pipe from the Republic of Korea; Preliminary Results and Rescission in Part of Antidumping Administrative Review

AGENCY: Import Administration, International Trade Administration, Department of Commerce.

ACTION: Notice of preliminary results and partial rescission of antidumping duty administrative review of circular welded non-alloy steel pipe from the Republic of Korea.

SUMMARY: The Department of Commerce is conducting an administrative review of the antidumping duty order on circular welded non-alloy steel pipe from the Republic of Korea. The period of review is November 1, 1998 through October 31, 1999. This review covers imports of subject merchandise from three producers/exporters.

We have preliminarily determined that sales of subject merchandise have been made below normal value. If these preliminary results are adopted in our final results, we will instruct the United States Customs Service to assess antidumping duties based on the difference between the U.S. price and normal value.

We have also determined that the reviews of Dongbu and Union should be rescinded.

We invite interested parties to comment on these preliminary results. We will issue the final results not later than 120 days from the date of publication of this notice.

EFFECTIVE DATE: December 6, 2000.

FOR FURTHER INFORMATION CONTACT: Jarrod Goldfeder or John Brinkmann, AD/CVD Enforcement, Office 1, Group I, Import Administration, International Trade Administration, U.S. Department of Commerce, 14th Street and Constitution Avenue, NW., Washington DC 20230; telephone (202) 482-0189 and 482-4126, respectively.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations are to 19 CFR part 351 (April 1999).

Background

On November 16, 1999, the Department published in the Federal Register a Notice of Antidumping or Countervailing Duty Order, Finding, or Suspended Investigation; Opportunity to Request Administrative Review, for the period November 1, 1998 through October 31, 1999 (64 FR 62167).

In accordance with 19 CFR 351.213(b)(2), the following producers and/or exporters of circular welded non-alloy steel pipe (standard pipe) from the Republic of Korea requested an administrative review of their sales on November 30, 1999: SeAH Steel Corporation (SeAH) and Hyundai Pipe Company, Ltd. (Hyundai). Also on November 30, 1999, Allied Tube and Conduit Corporation, Sawhill Tubular Division-Armco, Inc., and Wheatland Tube Company (collectively, the petitioners) requested reviews of Dongbu Steel Company, Ltd. (Dongbu), Hyundai, Korea Iron and Steel Company, Ltd. (KISCO), Shinho Steel Company, Ltd. (Shinho) and Union Steel Manufacturing Company, Ltd. (Union). On December 28, 1999, we published the notice of initiation of this antidumping duty administrative review for Dongbu, Hyundai, KISCO, SeAH, Shinho, and Union (collectively, the respondents). See Initiation of Antidumping and Countervailing Duty Administrative Reviews, 64 FR 72644 (Initiation Notice).

On January 13, 2000, we issued questionnaires to the respondents. Because the Department disregarded sales that failed the cost test during the most recently completed segment of the proceeding in which each company participated, pursuant to section 773(b)(2)(A)(ii) of the Act, we had reasonable grounds to believe or suspect that sales by these companies of the foreign like product under consideration for the determination of normal value (NV) in this review were made at prices below the cost of production (COP). Therefore, we initiated cost investigations of the respondents at the time we initiated the antidumping review.

Union made a submission on January 18, 2000, certifying that it did not make exports to or sales in the United States of subject merchandise manufactured or produced by itself during the period of review (POR). In its submission, Union elaborated that in 1997 it had sold its manufacturing facilities and relinquished its business licenses with respect to the subject merchandise, citing material it had submitted in the 1997/98 review of this order. As part of a July 6, 2000 submission, Union placed on the record of this proceeding information from the 1997/98 review.

On February 1, 2000, Dongbu also submitted a certification that it did not make exports to or sales in the United States of subject merchandise manufactured or produced by itself during the POR. However, a review of Customs Service entries during the POR revealed a number of entries listing Dongbu as the manufacturer. In response, Dongbu made a submission on June 30, 2000, showing that an erroneous manufacturer identification code was used for those entries by the importer of record.

On February 15, 2000, Hyundai requested that it be excused from reporting resales of subject merchandise that were produced by unaffiliated manufacturers and not further manufactured by Hyundai. The petitioners commented on Hyundai's request on February 16, 2000. On February 22, 2000, we issued a memorandum instructing respondents to report only those resales of merchandise that were further processed. See the Memorandum to the File, “Extension of Due Dates for Questionnaire Responses, Reporting of Cost Data on Fiscal-year Basis, Reporting of Resales” (Reporting Memorandum).

On February 11, 2000, Hyundai requested that it be allowed to report its cost data on a fiscal-year basis. On February 15, 2000, similar requests were received from KISCO, SeAH, and Shinho. On February 16, 2000, the petitioners commented on the respondents' requests for fiscal-year reporting of costs. On February 22, 2000, we requested that the respondents demonstrate that the use of fiscal-year cost reporting would not be distortive. Between February 28 and March 10, 2000, we received information and comments from the petitioners and the respondents on the difference between fiscal-year and POR-based cost reporting.

After requesting extensions for the submission of their responses to the questionnaire and receiving the same, Hyundai, KISCO, SeAH and Shinho submitted their section A through D responses by March 24, 2000. The petitioners submitted comments on the questionnaire responses in April 2000. We issued supplemental questionnaires covering sections A through D to the respondents by June 14, 2000, and received responses by July 5, 2000.

The petitioners withdrew their request for review with respect to KISCO on June 15, 2000. On July 11, 2000, the Department rescinded the review with respect to KISCO and extended the time limit for the preliminary results to October 6, 2000. See Circular Welded Non-Alloy Steel Pipe from the Republic of Korea; Notice of Extension of Time Limit for Preliminary Results and Partial Rescission of Antidumping Administrative Review, 65 FR 44521 (July 18, 2000).

On September 14, 2000, the petitioners submitted comments to the Department addressing several issues in anticipation of these preliminary results.

On October 2, 2000, we extended the time limits for the preliminary results by an additional twenty-eight days, or until no later than November 3, 2000. See Circular Welded Non-Alloy Steel Pipe from the Republic of Korea: Notice of Extension of Time Limit for Preliminary Results of Administrative Review, 65 FR 59823 (October 6, 2000). On October 31, 2000, we fully extended the time limits for the preliminary results until no later than November 29, 2000. See Circular Welded Non-Alloy Steel Pipe from the Republic of Korea: Notice of Extension of Time Limit for Preliminary Results of Administrative Review, 65 FR 66523 (November 6, 2000).

Rescission of Review in Part

As stated above in the “Case History” section of this notice, Dongbu certified that it did not make sales or exports of subject merchandise to the United States during the POR. To confirm the same, we reviewed Customs Service data which revealed a number of entries listing Dongbu as the manufacturer. In response, Dongbu submitted documentation on June 30, 2000, showing that these entries contained the wrong manufacturer designation. On September 15, 2000, Dongbu informed the Department that the Customs Service data did not need to be corrected because although the wrong manufacturer designation was listed, the correct dumping deposit rate was paid on all the sales listed on the Customs documentation for the period. We confirmed the information provided by Dongbu. See Memorandum to the File, “Confirmation of Customs Data Concerning Dongbu,” dated November 29, 2000. Furthermore, we find that Union placed sufficient evidence on the record of this review demonstrating that it did not make exports to or sales in the United States of subject merchandise manufactured or produced by itself during the period of review. Accordingly, we are rescinding this review with respect to Dongbu and Union.

Scope of Review

The merchandise subject to this review is circular welded non-alloy steel pipe and tube, of circular cross-section, not more than 406.4mm (16 inches) in outside diameter, regardless of wall thickness, surface finish (black, galvanized, or painted), or end finish (plain end, beveled end, threaded, or threaded and coupled). These pipes and tubes are generally known as standard pipes and tubes and are intended for the low-pressure conveyance of water, steam, natural gas, air, and other liquids and gases in plumbing and heating systems, air-conditioning units, automatic sprinkler systems, and other related uses. Standard pipe may also be used for light load-bearing applications, such as for fence tubing, and as structural pipe tubing used for framing and as support members for reconstruction or load-bearing purposes in the construction, shipbuilding, trucking, farm equipment, and other related industries. Unfinished conduit pipe is also included in this order.

All carbon-steel pipes and tubes within the physical description outlined above are included within the scope of this review except line pipe, oil-country tubular goods, boiler tubing, mechanical tubing, pipe and tube hollows for redraws, finished scaffolding, and finished conduit. In accordance with the Department's Final Negative Determination of Scope Inquiry on Certain Circular Welded Non-Alloy Steel Pipe and Tube from Brazil, the Republic of Korea, Mexico, and Venezuela (61 FR 11608, March 21, 1996), pipe certified to the API 5L line-pipe specification and pipe certified to both the API 5L line-pipe specifications and the less-stringent ASTM A-53 standard-pipe specifications, which falls within the physical parameters as outlined above, and entered as line pipe of a kind used for oil and gas pipelines is outside of the scope of the antidumping duty order.

Imports of these products are currently classifiable under the following Harmonized Tariff Schedule of the United States (HTSUS) subheadings: 7306.30.10.00, 7306.30.50.25, 7306.30.50.32, 7306.30.50.40, 7306.30.50.55, 7306.30.50.85, and 7306.30.50.90. Although the HTSUS subheadings are provided for convenience and Customs Service purposes, our written description of the scope of this proceeding is dispositive.

Product Comparisons

In accordance with section 771(16) of the Act, we first attempted to match contemporaneous sales of products sold in the United States with identical merchandise sold in Korea. Where there were no sales of identical merchandise in the home market to compare with U.S. sales, we compared U.S. sales with the most similar foreign like product.

For purposes of the preliminary results, where appropriate, we have calculated the adjustment for differences in merchandise based on the difference in the variable cost of manufacturing (variable COM) between each U.S. model and the most similar home market model selected for comparison.

Comparisons to Normal Value

To determine whether sales of standard pipe from Korea were made in the United States at less than fair value, we compared the export price (EP) or constructed export price (CEP) to the NV, as described in the “Export Price and Constructed Export Price” and “Normal Value” sections of this notice. In accordance with section 777A(d)(2) of the Act, we calculated monthly weighted-average prices for NV and compared these to individual U.S. transactions.

Export Price and Constructed Export Price

For sales to the United States, we used, as appropriate, EP or CEP in accordance with sections 772(a) and 772(b) of the Act. We calculated EP where the merchandise was sold directly to the first unaffiliated purchaser in the United States prior to importation and CEP was not otherwise warranted based on the facts of record. We calculated CEP for sales made by affiliated U.S. resellers that took place after importation into the United States.

We based EP and CEP on the packed C&F, CIF duty paid, FOB, or ex-dock duty paid prices to the first unaffiliated purchaser in, or for exportation to, the United States. Where appropriate, we made deductions for discounts and rebates, including early payment discounts. We added to U.S. price amounts for duty drawback, pursuant to section 772(c)(1)(B) of the Act, to the extent that such rebates were not excessive. See Final Results of Antidumping Duty Administrative Review and Partial Termination of Administrative Review: Circular Welded Non-Alloy Steel Pipe From the Republic of Korea, 62 FR 55574 (October 27, 1997) (Pipe First Review). We also made deductions for movement expenses in accordance with section 772(c)(2)(A) of the Act, including: foreign inland freight, foreign brokerage and handling, ocean freight, marine insurance, U.S. wharfage, U.S. customs brokerage, and U.S. customs duties (including harbor maintenance and merchandise processing fees).

For CEP, in accordance with section 772(d)(1) of the Act, we deducted from the starting price those selling expenses associated with economic activities occurring in the United States, including commissions, credit costs, warranty expenses, and indirect selling expenses, where applicable. We made adjustments for interest revenue collected on late payments, where applicable. We also deducted from CEP an amount for profit in accordance with sections 772(d)(3) and (f) of the Act.

Consistent with the preceding review, we determined that although for home market transactions the invoice date reasonably approximates the date on which material terms of sale are made, invoice date should not be used as the date of sale for U.S. transactions. While each company has a slightly different U.S. sales process, consistent throughout the responses is the notion that price and quantity are established, then the factory produces the subject merchandise, and finally, after a significant period of time, the product is shipped and an invoice issued. Based on this understanding of the respondents' U.S. sales process, we have used as date of sale the purchase order date, which reasonably approximates the time at which the material terms of sale are set.

Pursuant to sections 772(a) and 772(b) of the Act, we reclassified Hyundai's reported EP sales as CEP sales since the agreement for sale occurred in the United States between Hyundai Pipe America and Hyundai Corporation USA, Hyundai's U.S. affiliates, and the unaffiliated customers. See Memorandum to Susan Kuhbach, “Classification of Sales by Hyundai Pipe Co., Ltd as EP or CEP,” dated November 27, 2000.

Normal Value

A. Selection of Comparison Markets

In order to determine whether there was a sufficient volume of sales in the home market to serve as a viable basis for calculating NV, we compared each respondent's volume of home market sales of the foreign like product to the volume of its U.S. sales of the subject merchandise. Pursuant to sections 773(a)(1)(B) and (C) of the Act, because each respondent's aggregate volume of home market sales of the foreign like product was greater than five percent of its aggregate volume of U.S. sales of the subject merchandise, we determined that the home market was viable for all producers.

Hyundai and SeAH reported sales in the home market of “overrun” merchandise (i.e., sales of a greater quantity of pipe than the customer ordered due to overproduction). Hyundai and SeAH claimed that we should disregard “overrun” sales in the home market as outside the ordinary course of trade.

Section 773(a)(1)(B) of the Act provides that normal value shall be based on the price at which the foreign like product is sold in the usual commercial quantities and in the ordinary course of trade. Ordinary course of trade is defined in section 771(15) of the Act. We analyzed the following criteria to determine whether “overrun” sales differ from other sales of commercial pipe: (1) Ratio of overrun sales to total home market sales; (2) number of overrun customers compared to total number of home market customers; (3) average price of an overrun sale compared to average price of a commercial sale; (4) profitability of overrun sales compared to profitability of commercial sales; and (5) average quantity of an overrun sale compared to the average quantity of a commercial sale. Based on our analysis of these criteria and on an analysis of the terms of sale, we found certain overrun sales to be outside the ordinary course of trade. This analysis is consistent with our treatment of such sales in prior reviews. See Memoranda from Team to the File, “Preliminary Results Calculation Memorandum for Hyundai Pipe Co., Ltd.. (‘HDP’)” and “Preliminary Results Calculation Memorandum for SeAH Steel Corporation (‘SeAH’),” dated November 29, 2000.

B. Arm's Length Test

Hyundai and SeAH had sales in the home market to affiliated customers. Sales to affiliated customers for consumption in the home market which were determined not to be at arm's length were excluded from our analysis. To test whether these sales were made at arm's length, we compared the prices of sales of comparison products to affiliated and unaffiliated customers, net of all movement charges, direct selling expenses, discounts, and packing. Pursuant to 19 CFR 351.403(c) and in accordance with our practice, where the prices to the affiliated party were on average less than 99.5 percent of the prices to unaffiliated parties, we determined that the sales made to the affiliated party were not at arm's length. See e.g., Notice of Final Results and Partial Rescission of Antidumping Duty Administrative Review: Roller Chain, Other Than Bicycle, From Japan, 62 FR 60472, 60478 (November 10, 1997), and Antidumping Duties; Countervailing Duties: Final Rule (Antidumping Duties), 62 FR 27295, 27355-56 (May 19, 1997). We included in our NV calculations those sales to affiliated customers that passed the arm's-length test in our analysis. See 19 CFR 351.403.

C. Cost of Production Analysis

Because we disregarded sales below the COP in the last completed review for Hyundai, SeAH, and Shinho (see Circular Welded Non-Alloy Steel Pipe from Korea: Final Results of Antidumping Duty Administrative Review, 63 FR 32833, June 16, 1998 (Pipe Fourth Review)), we had reasonable grounds to believe or suspect that sales of the foreign product under consideration for the determination of NV in this review for all respondents may have been made at prices below the COP, as provided by section 773(b)(2)(A)(ii) of the Act. Therefore, pursuant to section 773(b)(1) of the Act, we initiated a sales-below-cost investigation of these companies' home market sales.

We conducted the COP analysis described below.

1. Calculation of COP

Before making any comparisons to NV, we conducted a COP analysis, pursuant to section 773(b) of the Act, to determine whether the respondents' comparison market sales were made below the COP. We calculated the COP based on the sum of the cost of materials and fabrication for the foreign like product, plus amounts for general and administrative expenses and packing, in accordance with section 773(b)(3) of the Act.

We allowed respondents to report their costs on a fiscal-year basis because their fiscal years were closely aligned with the POR (November-October POR vs. January-December fiscal year), the differences in costs were minimal, and there was no other indication that the use of fiscal-year data would be distortive. See Reporting Memorandum.

We relied on the respondents' information as submitted, except in the specific instances discussed below.

2. Test of Comparison Market Prices

As required under section 773(b) of the Act, we compared the weighted-average COP to the per unit price of the comparison market sales of the foreign like product, to determine whether these sales had been made at prices below the COP within an extended period of time in substantial quantities, and whether such prices were sufficient to permit the recovery of all costs within a reasonable period of time. We determined the net comparison market prices for the below-cost test by subtracting from the gross unit price any applicable movement charges, discounts, rebates, direct and indirect selling expenses, and packing expenses.

3. Results of COP Test

Pursuant to section 773(b)(2)(C) of the Act, where less than 20 percent of a respondent's sales of a given product were made at prices less than the COP, we did not disregard any below-cost sales of that product because we determined that the below-cost sales were not made in “substantial quantities.” Where 20 percent or more of a respondent's sales of a given product during the 12-month period were at prices less than the COP, we determined such sales to have been made in “substantial quantities” within an extended period of time in accordance with section 773(b)(2)(B) and (C) of the Act. In such cases, because we compared prices to POR-average costs, we also determined that such below-cost sales were not made at prices which would permit recovery of all costs within a reasonable period of time, in accordance with section 773(b)(2)(D) of the Act.

We found that Hyundai, SeAH, and Shinho all made home market sales at below COP prices within an extended period of time in substantial quantities. Further, we found that these sales prices did not permit for the recovery of costs within a reasonable period of time. Therefore, we excluded these sales from our analysis and used the remaining sales as the basis for determining NV, in accordance with section 773(b)(1) of the Act.

D. Calculation of Normal Value Based on Comparison Market Prices

We calculated NV based on ex-works, FOB, or delivered prices to comparison market customers. We made deductions from the starting price for inland freight and warehousing. In accordance with sections 773(a)(6)(A) and (B) of the Act, we added U.S. packing costs and deducted comparison market packing, respectively. In addition, we made circumstance of sale (COS) adjustments for direct expenses, including imputed credit expenses and warranty expenses, in accordance with section 773(a)(6)(C)(iii) of the Act.

When comparing U.S. sales with comparison market sales of similar, but not identical, merchandise, we also made adjustments for physical differences in the merchandise in accordance with section 773(a)(6)(C)(ii) of the Act and 19 CFR 351.411. We based this adjustment on the difference in the variable COM for the foreign like product and subject merchandise, using POR-average costs.

We also made adjustments, where applicable, in accordance with 19 CFR 351.410(e), for indirect selling expenses incurred on home market or U.S. sales where commissions were granted on sales in one market but not in the other (the commission offset). Specifically, where commissions are incurred in one market, but not in the other, we make an allowance for the indirect selling expenses in the other market up to the amount of the commissions.

During the POR, SeAH purchased the foreign like product from unaffiliated manufacturers and then further manufactured it into products also within the scope of this review. For purposes of these preliminary results, we have included sales of all such further-manufactured subject merchandise in our analysis.

E. Level of Trade (LOT)

As set forth in section 773(a)(1)(B) of the Act and in the Statement of Administrative Action (SAA) accompanying the URAA at 829-831, to the extent practicable, the Department will calculate NV based on sales at the same LOT as the EP or CEP. When the Department is unable to find sales of the foreign like product in the comparison market at the same LOT as the EP or CEP, the Department may compare the U.S. sale to sales at a different LOT in the comparison market.

We determine that sales are made at different levels of trade if they are made at different marketing stages (or their equivalent). Substantial differences in selling activities are a necessary, but not sufficient, condition for determining that there is a difference in the stages of marketing. See Notice of Final Determination of Sales at Less Than Fair Value: Certain Cut-to-Length Carbon Steel Plate From South Africa, 62 FR 61731 (November 19, 1997); see also 19 CFR 351.412 (62 FR 27296, 27414-27415 (May 19, 1997)) for a concise description of this practice. Pursuant to section 773(a)(1)(B)(i) of the Act and the SAA at 827, in identifying levels of trade for EP and home market sales we consider the selling functions reflected in the starting prices before any adjustments. For CEP sales, we consider only the selling activities reflected in the price after the deduction of expenses and profit under section 772(d) of the Act.¹ We expect that, if claimed levels of trade are the same, the functions and activities of the seller should be similar. Conversely, if a party claims that levels of trade are different for different groups of sales, the functions and activities of the seller should be dissimilar.

¹ The U.S. Court of International Trade (CIT) has held that the Department's practice of determining LOT for CEP transactions after CEP deductions is an impermissible interpretation of section 772(d) of the Act. See Borden, Inc., v. United States, 4 F. Supp.2d 1221, 1241-42 (CIT March 26, 1998) (Borden II). The Department believes, however, that its practice is in full compliance with the statute. On June 4, 1999, the CIT entered final judgment in Borden II on the LOT issue. See Borden, Inc., v. United States, Court No. 96-08-01970, Slip Op. 99-50 (CIT, June 4, 1999). The government has appealed Borden II to the Court of Appeals for the Federal Circuit. Consequently, the Department has continued to follow its normal practice of adjusting CEP under section 772(d) of the Act prior to starting a LOT analysis, as articulated in the Department's regulations at section 351.412.

When CEP sales have been made in the United States, section 773(a)(7)(B) of the Act establishes that a CEP offset may be granted provided that two conditions exist: (1) NV is established at a LOT that is at a more advanced stage of distribution than the LOT of the CEP; and (2) the data available do not permit a determination that there is a pattern of consistent price differences between sales at different LOTs in the comparison market.

In implementing these principles in this review, we obtained information from each respondent regarding the marketing stage involved in the reported home market and U.S. sales, including a description of the selling activities performed by the respondents for each channel of distribution. For a detailed description of our LOT methodology and a summary of company-specific LOT findings for these preliminary results, see the November 29, 2000, “Antidumping Administrative Review of Circular Welded Non-Alloy Steel Pipe from the Republic of Korea: Preliminary Level of Trade Analysis”' memorandum, on file in the Central Records Unit (CRU). The company-specific LOT analysis is included in the business proprietary analysis memorandum for each company.

Currency Conversion

For purposes of these preliminary results, we made currency conversions in accordance with section 773A(a) of the Act, based on the official exchange rates published by the Federal Reserve. Section 773A(a) of the Act directs the Department to use a daily exchange rate in order to convert foreign currencies into U.S. dollars, unless the daily rate involves a “fluctuation.” In accordance with the Department's practice, we have determined as a general matter that a fluctuation exists when the daily exchange rate differs from a benchmark by 2.25 percent. The benchmark is defined as the rolling average of rates for the past 40 business days. When we determine that a fluctuation exists, we substitute the benchmark for the daily rate.

Preliminary Results of the Review

As a result of our review, we preliminarily determine that the following percentage weighted-average margins exist for the period November 1, 1998, through October 31, 1999:

Manufacturer/exporter | Margin (percent)
Hyundai | 3.77
Shinho | 1.38
SeAH | 0.98

Parties to the proceeding may request disclosure within five days of the date of publication of this notice. An interested party may request a hearing within 30 days of publication of these preliminary results. See 19 CFR 351.310(c). Any hearing, if requested, will be held 44 days after the date of publication, or the first working day thereafter. Interested parties may submit case briefs and/or written comments no later than 30 days after the date of publication of this notice. Rebuttal briefs and rebuttals to written comments, which must be limited to issues raised in such briefs or comments, may be filed no later than 37 days after the date of publication. Parties who submit arguments are requested to submit with the argument (1) a statement of the issue, (2) a brief summary of the argument and (3) a table of authorities. Further, we would appreciate it if parties submitting written comments would provide the Department with an additional copy of the public version of any such comments on diskette. The Department will issue a notice of the final results of this administrative review, including the results of its analysis of issues raised in any such comments, within 120 days of publication of these preliminary results.

Assessment Rate

Pursuant to 19 CFR 351.212(b), the Department calculates an assessment rate for each importer of the subject merchandise. Upon issuance of the final results of this administrative review, if any importer-specific assessment rates calculated in the final results are above de minimis (i.e., at or above 0.5 percent), the Department will issue appraisement instructions directly to the Customs Service to assess antidumping duties on appropriate entries by applying the assessment rate to the entered value of the merchandise. For assessment purposes, we calculate importer-specific assessment rates for the subject merchandise by aggregating the dumping margins for all U.S. sales to each importer and dividing the amount by the total entered value of the sales to that importer.

Cash Deposit Requirements

To calculate the cash-deposit rate for each producer and/or exporter included in this administrative review, we divided the total dumping margins for each company by the total net value for that company's sales during the review period.

Furthermore, the following deposit requirements will be effective upon completion of the final results of this administrative review for all shipments of standard pipe from Korea entered, or withdrawn from warehouse, for consumption on or after the publication date of the final results of this administrative review, as provided by section 751(a)(1) of the Act: (1) The cash deposit rate for the reviewed companies will be the rates established in the final results of this administrative review, except if the rate is less than 0.5 percent and, therefore, de minimis, the cash deposit will be zero; (2) for merchandise exported by manufacturers or exporters not covered in this review but covered in the original less-than-fair-value investigation or a previous review, the cash deposit will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 4.80 percent, the “all others” rate established in the less-than-fair-value investigation. See Notice of Antidumping Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

These cash deposit requirements, when imposed, shall remain in effect until publication of the final results of the next administrative review.

Notification to Importers

This notice serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this administrative review in accordance with sections 751(a)(1) and 777(i)(1) of the Act.

Dated: November 29, 2000.
Troy H. Cribb,
Assistant Secretary, for Import Administration.

[FR Doc. 00-31105 Filed 12-5-00; 8:45 am]

BILLING CODE 3510-DS-P